DEPARTMENT OF EDUCATION

Applications for New Awards; Transitioning Gang-Involved Youth to Higher Education Program

AGENCY: Office of Postsecondary Education, Department of Education.

ACTION: Notice.

SUMMARY: The Department of Education (Department) is issuing a notice inviting applications (NIA) for fiscal year (FY) 2024 for the Transitioning Gang-Involved Youth to Higher Education Program.

DATES:

Applications Available: August 1, 2024.

Deadline for Transmittal of Applications: September 30, 2024.

Deadline for Intergovernmental Review: November 29, 2024.

ADDRESSES: For the addresses for obtaining and submitting an application, please refer to our Common Instructions for Applicants to Department of Education Discretionary Grant Programs, published in the Federal Register on December 7, 2022 (87 FR 75045), and available at https://www.federalregister.gov/documents/2022/12/07/2022-26554/common-instructions-for-applicants-to-department-of-education-discretionary-grant-programs.

FOR FURTHER INFORMATION CONTACT: Jymece Seward, U.S. Department of Education, 400 Maryland Avenue SW, Room 5C113, Washington, DC 20202-4260. Telephone: 202-453-6138. Email: Jymece.Seward@ed.gov.

If you are deaf, hard of hearing, or have a speech disability and wish to access telecommunications relay services, please dial 7-1-1.

SUPPLEMENTARY INFORMATION:

Full Text of Announcement

I. Funding Opportunity Description

Purpose of Program: The purpose of the Transitioning Gang-Involved Youth to Higher Education (TGIY) Program is to provide a funding opportunity for organizations that work directly with gang-involved youth to help such youth pursue higher education opportunities that will lead to certification or credentials.

Assistance Listing Number: 84.116Y.

OMB Control Number: 1894-0006.

Background: In today's economy, 67 percent of U.S. jobs require a postsecondary credential, and by 2031, this percentage is projected to grow to 71 percent.¹ A report by the Alliance for Excellent Education concluded that increasing the number of students who graduate from high school and complete a postsecondary degree would create significant benefits for individuals, communities, States, and the country as a whole, including increases in lifetime earnings and tax revenues, lower unemployment rates, and decreased crime and incarceration rates.²

¹ Carnevale, A.P., Smith, N., Van Der Werf, M., & Quinn, M.C. (2023). After Everything: Projections of jobs, education, and training requirements through 2031. Georgetown University—Georgetown Public Policy Institute Center on Education and the Workforce.

² Alliance for Excellent Education (2013). “Saving Futures, Saving Dollars: The Impact of Education on Crime Reduction and Earnings.”

According to the latest data from the National Youth Gang Survey, in 2012, there were 850,000 gang members in the United States.³ And, gang members are overrepresented among incarcerated populations in the United States.⁴ One study found that 47 percent of [incarcerated] juveniles belong to a gang.⁵

³ National Gang Center. National Youth Gang Survey Analysis, https://nationalgangcenter.ojp.gov/survey-analysis.

⁴ Pyrooz, D, Gartner, N, & Smith, M. (2017). “Consequences of Incarceration for Gang Membership: A Longitudinal Study of Serious Offenders in Philadelphia and Phoenix.” Criminology.

⁵ Ibid.

Gang involved youth are 30% less likely to complete high school and 58% less likely to earn a four-year degree compared with their non-gang peers.⁶ For individuals who were previously incarcerated, those who enroll in postsecondary education programs were found to be 48 percent less likely to be reincarcerated than those who do not.⁷

⁶ Pyrooz D.C. (2014). From colors and guns to caps and gowns? The effect of gang membership on educational attainment. Journal of Research in Crime and Delinquency, 51(1), 56-87.

⁷ Gibbons, A., & Rar, R. (August 20, 2021). “The societal benefits of postsecondary prison education.” Brookings Institution.

For students who are coming out of confinement or incarceration, sustaining engagement in a two-year or four-year college course of study can be challenging as many of these students do not have the educational and family supports traditionally associated with college success and require support to navigate a college path.⁸ Effective advising can play a central role in helping students navigate complicated systems and processes that are critical to postsecondary success. There is evidence that implementing comprehensive, integrated advising models; building guided pathways to academic success; integrating wraparound services into holistic advising; and guiding students to career success beyond completion are strategies that can lead to increased retention and completion rates for students.⁹

⁸ JDAI Conference. (2017). Going for the Gold in Secure Placements, Center for Educational Excellence in Alternative Settings, Creating a College-Going Culture.

⁹ Raise the Bar—Advising Resources Guide. (April 2024), U.S. Department of Education. (See, e.g., Karp, M., Ackerson, S., Cheng, I., Cocatre-Zilgien, E., Costelloe, S., Freeman, B., Lemire, S., Linderman, D., McFarlane, B., Moulton, S., O'Shea, J., Porowski, A., & Richburg-Hayes, L. (2021). Effective advising for postsecondary students: A practice guide for educators (WWC 2022003). Washington, DC: National Center for Education Evaluation and Regional Assistance (NCEE), Institute of Education Sciences, U.S. Department of Education.)

In order to support gang-involved youth to pursue higher education opportunities, this competition includes two absolute priorities—the first is for projects that work directly with gang-involved youth to help such youth pursue higher education opportunities and the second is to support projects that are designed to increase postsecondary education access, affordability, completion, and success—and two competitive preference priorities focused on providing wraparound student support services and cross-agency coordination. Projects must serve gang-involved youth (as defined in this notice).

Recognizing the unique experiences and perspectives of organizations working with this student population, this competition also includes two invitational priorities—one to support projects that are designed to specifically work with gang-involved youth who are justice involved and one to support projects proposed by organizations that have effectively worked with correctional education programs, Second Chance Pell Programs, or Prison Education Programs.

Priorities: This notice contains two absolute priorities, two competitive preference priorities, and two invitational priorities. The first absolute priority is from the notice of final priority and definition for this program published elsewhere in this issue of the Federal Register (2024 NFP). The second absolute priority and the competitive preference priorities are from the Secretary's Supplemental Priorities and Definitions for Discretionary Grant Programs, published in the Federal Register on December 10, 2021 (86 FR 70612) (Supplemental Priorities).

Absolute Priorities: For FY 2024 and any subsequent year in which we make awards from the list of unfunded applications from this competition, these priorities are absolute priorities. Under 34 CFR 75.105(c)(3) we consider only applications that meet these priorities.

The priorities are:

Absolute Priority 1—Projects for Organizations to Work Directly with Gang-Involved Youth to Help Such Youth Pursue Higher Education Opportunities.

To meet this priority, an eligible applicant must demonstrate that the project will work directly with gang-involved youth to help such youth pursue higher education opportunities.

Absolute Priority 2—Increasing Postsecondary Education Access, Affordability, Completion, and Post-Enrollment Success.

Projects that are designed to increase postsecondary access, affordability, completion, and success for underserved students by addressing one or more of the following priority areas:

(a) Increasing the number and proportion of underserved students who enroll in and complete postsecondary education programs, which may include strategies related to college preparation, awareness, application, selection, advising, counseling, and enrollment.

(b) Supporting the development and implementation of student success programs that integrate multiple comprehensive and evidence-based services or initiatives, such as academic advising, structured/guided pathways, career services, credit-bearing academic undergraduate courses focused on career, and programs to meet basic needs, such as housing, childcare and transportation, student financial aid, and access to technological devices.

(c) Increasing the number of individuals who return to the educational system and obtain a regular high school diploma, or its recognized equivalent for adult learners; enroll in and complete community college, college, or career and technical training; or obtain basic and academic skills, including English language learning, that they need to succeed in college—including community college—as well as career and technical education and/or the workforce.

(d) Supporting evidence-based practices in career and technical education and ensuring equitable access to and successful completion of high-quality programs, credentials, or degrees.

(e) Supporting the development and implementation of evidence-based strategies to promote students' development of knowledge and skills necessary for success in the workplace and civic life.

(f) Providing secondary school students with access to career exploration and advising opportunities to help students make informed decisions about their postsecondary enrollment decisions and to place them on a career path.

Competitive Preference Priorities: For FY 2024 and any subsequent year in which we make awards from the list of unfunded applications from this competition, these priorities are competitive preference priorities. Under 34 CFR 75.105(c)(2)(i), we award up to an additional 8 points to an application, depending on how well the application meets Competitive Preference Priority 1; and up to an additional 5 points to an application, depending on how well the application meets Competitive Preference Priority 2. Applicants may address one, both, or neither of these competitive preference priorities

These priorities are:

Competitive Preference Priority 1—Meeting Student Social, Emotional, and Academic Needs (up to 8 points).

Projects that are designed to improve students' social, emotional, academic, and career development, with a focus on underserved students, through one or more of the following priority areas:

(a) Creating a positive, inclusive, and identity-safe climate at institutions of higher education through one or both of the following activities:

(1) Fostering a sense of belonging and inclusion for underserved students. (up to 2 points)

(2) Implementing evidence-based practices for advancing student success for underserved students. (up to 2 points); and/or

(b) Fostering partnerships, including across government agencies (e.g., housing, human services, employment agencies), local educational agencies, community-based organizations, adult learning providers, and postsecondary education institutions, to provide comprehensive services to students and families that support students' social, emotional, mental health, and academic needs, and that are inclusive with regard to race, ethnicity, culture, language, and disability status. (up to 4 points)

Competitive Preference Priority 2—Strengthening Cross-Agency Coordination and Community Engagement To Advance Systemic Change (up to 5 points).

Projects that are designed to take a systemic evidence-based approach to improving outcomes for underserved students by coordinating efforts with Federal, State, or local agencies, or community-based organizations, that support students, to address one or more of the following:

(a) Justice policy. (up to 1 point)

(b) College readiness. (up to 2 points)

(c) Workforce development. (up to 2 points)

Invitational Priorities: For FY 2024 and any subsequent year in which we make awards from the list of unfunded applications from this competition, these priorities are invitational priorities. Under 34 CFR 75.105(c)(1), we do not give an application that meets these invitational priorities a competitive or absolute preference over other applications.

These priorities are:

Invitational Priority 1—Projects Targeted for Justice-Involved Youth.

Projects that are designed to specifically work with gang-involved youth who are justice involved, including formerly incarcerated individuals and/or individuals who have been placed on probation, are being held pre-trial, are subject to diversion, or are subject to other alternative criminal sanctions. These projects should be designed to support the reintegration of, and improve long-term outcomes for, youth and adults after justice system involvement by linking these individuals to appropriate educational opportunities and academic support, vocational rehabilitation, or workforce training programs.

Invitational Priority 2—Organizations with a Correctional Education Program, Second Chance Pell Program, or Prison Education Program.

Projects proposed by entities with prior experience effectively working directly with confined or incarcerated individuals to help such individuals pursue educational opportunities, including prison education programs, Second Chance Pell Programs, and programs that provide or support education in correctional facilities but do not access Federal Pell grants (correctional education programs).

For the purpose of this invitational priority—

Confined or incarcerated individual means an individual who is serving a criminal sentence in a Federal, State, or local penitentiary, prison, jail, reformatory, work farm, juvenile justice facility, or other similar correctional facility. An individual is not considered confined or incarcerated if that individual is subject to or serving an involuntary civil commitment, in a halfway house or home detention, or sentenced to serve only weekends.

Prison education program means a program operated by a public, nonprofit, or vocational institution and approved for operation by a correctional entity, an accreditor, and the Department of Education, in which a confined or incarcerated individual receives Pell Grant funds to pay for postsecondary education. A confined or incarcerated individual includes any student who is serving a criminal sentence in a Federal, State, or local penitentiary, prison, jail, reformatory, work farm, juvenile justice facility, or other similar correctional institution.

Second Chance Pell Program means a program operated under the Experimental Sites Initiative that provides need-based Pell Grants to incarcerated individuals to allow them to participate in eligible postsecondary programs.

Definitions: For FY 2024 and any subsequent year in which we make awards from the list of unfunded applications from this competition, the following definitions apply to the priorities and selection criteria in this notice. The definition of “gang-involved youth” is from the 2024 NFP. The definition of “underserved student” is from the Supplemental Priorities. The remaining definitions are from 34 CFR 77.1.

Demonstrates a rationale means a key project component included in the project's logic model is informed by research or evaluation findings that suggest the project component is likely to improve relevant outcomes.

Evidence-based means the proposed project component is supported by evidence that demonstrates a rationale.

Experimental study means a study that is designed to compare outcomes between two groups of individuals (such as students) that are otherwise equivalent except for their assignment to either a treatment group receiving a project component or a control group that does not. Randomized controlled trials, regression discontinuity design studies, and single-case design studies are the specific types of experimental studies that, depending on their design and implementation (e.g., sample attrition in randomized controlled trials and regression discontinuity design studies), can meet What Works Clearinghouse (WWC) standards without reservations as described in the WWC Handbooks:

(i) A randomized controlled trial employs random assignment of, for example, students, teachers, classrooms, or schools to receive the project component being evaluated (the treatment group) or not to receive the project component (the control group).

(ii) A regression discontinuity design study assigns the project component being evaluated using a measured variable (e.g., assigning students reading below a cutoff score to tutoring or developmental education classes) and controls for that variable in the analysis of outcomes.

(iii) A single-case design study uses observations of a single case (e.g., a student eligible for a behavioral intervention) over time in the absence and presence of a controlled treatment manipulation to determine whether the outcome is systematically related to the treatment.

Gang-involved youth means an individual, between the ages 14 and 24, who is or was involved in a group that meets the following criteria: the group has three or more members who share an identity, typically linked to a name and often other symbols; members view themselves as a gang and are recognized by others as a gang; the group has some permanence and a degree of organization; and the group is involved in an elevated level of criminal activity.

Logic model (also referred to as theory of action) means a framework that identifies key project components of the proposed project (i.e., the active “ingredients” that are hypothesized to be critical to achieving the relevant outcomes) and describes the theoretical and operational relationships among the key project components and relevant outcomes.

Note: In developing logic models, applicants may want to use resources such as the Regional Educational Laboratory Program's Education Logic Model Application at https://ies.ed.gov/ncee/rel/Products/Region/pacific/Resource/100677.

Performance measure means any quantitative indicator, statistic, or metric used to gauge program or project performance.

Performance target means a level of performance that an applicant would seek to meet during the course of a project or as a result of a project.

Project component means an activity, strategy, intervention, process, product, practice, or policy included in a project. Evidence may pertain to an individual project component or to a combination of project components (e.g., training teachers on instructional practices for English learners and follow-on coaching for these teachers).

Promising evidence means that there is evidence of the effectiveness of a key project component in improving a relevant outcome, based on a relevant finding from one of the following:

(i) A practice guide prepared by What Works Clearinghouse (WWC) reporting a “strong evidence base” or “moderate evidence base” for the corresponding practice guide recommendation;

(ii) An intervention report prepared by the WWC reporting a “positive effect” or “potentially positive effect” on a relevant outcome with no reporting of a “negative effect” or “potentially negative effect” on a relevant outcome; or

(iii) A single study assessed by the Department, as appropriate, that—

(A) Is an experimental study, a quasi-experimental design study, or a well-designed and well-implemented correlational study with statistical controls for selection bias (e.g., a study using regression methods to account for differences between a treatment group and a comparison group); and

(B) Includes at least one statistically significant and positive (i.e., favorable) effect on a relevant outcome.

Quasi-experimental design study means a study using a design that attempts to approximate an experimental study by identifying a comparison group that is similar to the treatment group in important respects. This type of study, depending on design and implementation (e.g., establishment of baseline equivalence of the groups being compared), can meet WWC standards with reservations, but cannot meet WWC standards without reservations, as described in the WWC Handbooks.

Relevant outcome means the student outcome(s) or other outcome(s) the key project component is designed to improve, consistent with the specific goals of the program.

Underserved student means a student (which may include students in postsecondary education or career and technical education, and adult learners, as appropriate) in the following subgroup: A student impacted by the justice system, including a formerly incarcerated student.

What Works Clearinghouse (WWC) Handbooks (WWC Handbooks) means the standards and procedures set forth in the WWC Standards Handbook, Versions 4.0 or 4.1, and WWC Procedures Handbook, Versions 4.0 or 4.1, or in the WWC Procedures and Standards Handbook, Version 3.0 or Version 2.1 (all incorporated by reference, see § 77.2). Study findings eligible for review under WWC standards can meet WWC standards without reservations, meet WWC standards with reservations, or not meet WWC standards. WWC practice guides and intervention reports include findings from systematic reviews of evidence as described in the WWC Handbooks documentation.

Note: The What Works Clearinghouse Procedures and Standards Handbook (Version 4.1), as well as the more recent What Works Clearinghouse Handbook released in August 2022 (Version 5.0), are available at https://ies.ed.gov/ncee/wwc/Handbooks.

Program Authority: 20 U.S.C. 1138-1138d; Explanatory Statement accompanying Division D of the Further Consolidated Appropriations Act, 2024 (Pub. L. 118-47).

Note: Projects will be awarded and must be operated in a manner consistent with the nondiscrimination requirements contained in Federal civil rights laws.

Applicable Regulations: (a) The Education Department General Administrative Regulations in 34 CFR parts 75, 77, 79, 82, 84, 86, 97, 98, and 99. (b) The Office of Management and Budget Guidelines to Agencies on Governmentwide Debarment and Suspension (Nonprocurement) in 2 CFR part 180, as adopted and amended as regulations of the Department in 2 CFR part 3485. (c) The Guidance for Federal Financial Assistance in 2 CFR part 200, as adopted and amended as regulations of the Department in 2 CFR part 3474. (d) The Supplemental Priorities. (e) The 2024 NFP.

Note: The regulations in 34 CFR part 86 apply to institutions of higher education only.

Note: The Department will implement the provisions included in the OMB final rule, OMB Guidance for Federal Financial Assistance, which amends 2 CFR parts 25, 170, 175, 176, 180, 182, 183, 184, and 200, on October 1, 2024. Grant applicants that anticipate a performance period start date on or after October 1, 2024 should follow the provisions stated in the OMB Guidance for Federal Financial Assistance (89 FR 30046, April 22, 2024) when preparing an application. For more information about these updated regulations please visit: https://www.cfo.gov/resources/uniform-guidance/.

II. Award Information

Type of Award: Discretionary grants.

Estimated Available Funds: $2,970,000.

Contingent upon the availability of funds and the quality of applications, we may make additional awards in subsequent years from the list of unfunded applications from this competition.

Estimated Range of Awards: $900,000 to $990,000.

Estimated Average Size of Awards: $950,000.

Maximum Award: We will not make an award exceeding $990,000 for a single budget period of 36 months.

Estimated Number of Awards: 3.

Note: The Department is not bound by any estimates in this notice.

Project Period: Up to 36 months.

III. Eligibility Information

1. Eligible Applicants: Eligible applicants are institutions of higher education (IHEs) (as defined in section 101 of the Higher Education Act of 1965, as amended (20 U.S.C. 1001)) that are public or private nonprofit IHEs, and public and private nonprofit organizations and agencies that partner with IHEs.

Note: If you are a nonprofit organization, under 34 CFR 75.51, you may demonstrate your nonprofit status by providing: (1) proof that the Internal Revenue Service currently recognizes the applicant as an organization to which contributions are tax deductible under section 501(c)(3) of the Internal Revenue Code; (2) a statement from a State taxing body or the State attorney general certifying that the organization is a nonprofit organization operating within the State and that no part of its net earnings may lawfully benefit any private shareholder or individual; (3) a certified copy of the applicant's certificate of incorporation or similar document if it clearly establishes the nonprofit status of the applicant; or (4) any item described above if that item applies to a State or national parent organization, together with a statement by the State or parent organization that the applicant is a local nonprofit affiliate.

2. a. Cost Sharing or Matching: This competition does not require cost sharing or matching.

b. Indirect Cost Rate Information: This program uses an unrestricted indirect cost rate. For more information regarding indirect costs, or to obtain a negotiated indirect cost rate, please see www2.ed.gov/about/offices/list/ocfo/intro.html.

c. Administrative Cost Limitation: This program does not include any program-specific limitation on administrative expenses. All administrative expenses must be reasonable and necessary and conform to Cost Principles described in 2 CFR part 200 subpart E of the Uniform Guidance.

3. Subgrantees: Under 34 CFR 75.708(b) and (c), a grantee under this competition may award subgrants—to directly carry out project activities—to entities listed in the grant application.

IV. Application and Submission Information

1. Application Submission Instructions: Applicants are required to follow the Common Instructions for Applicants to Department of Education Discretionary Grant Programs, published in the Federal Register on December 7, 2022 (87 FR 75045), and available at https://www.federalregister.gov/d/2022-26554, which contain requirements and information on how to submit an application.

2. Intergovernmental Review: This program is subject to Executive Order 12372 and the regulations in 34 CFR part 79. Information about Intergovernmental Review of Federal Programs under Executive Order 12372 is in the application package for this program.

3. Funding Restrictions: We specify unallowable costs in 34 CFR 606.10(c). We reference additional regulations in the Applicable Regulations section of this notice.

4. Recommended Page Limit: The application narrative is where you, the applicant, address the selection criteria and priorities that reviewers use to evaluate your application. We recommend that you (1) limit the application narrative to no more than 50 pages and (2) use the following standards:

• A “page” is 8.5″ x 11″, on one side only, with 1″ margins at the top, bottom, and both sides.

• Double-space (no more than three lines per vertical inch) all text in the application narrative, including titles, headings, footnotes, quotations, references, and captions as well as all text in charts, tables, figures, and graphs.

• Use a font that is either 12 point or larger, and no smaller than 10 pitch (characters per inch).

• Use one of the following fonts: Times New Roman, Courier, Courier New, or Arial.

The recommended page limit applies to the Project Narrative, which is your complete response to the selection criteria and the priorities. However, the page limit does not apply to the Application for Federal Assistance form (SF-424); the ED SF-424 Supplement form; the Budget Information—Non-Construction Program form (ED 524); the assurances and certifications; or the one-page abstract, the program profile form, and supporting budget narrative.

V. Application Review Information

1. Selection Criteria: The following selection criteria for this program are from 34 CFR 75.210. Applicants should address each of the following selection criteria separately for each proposed activity. We will award up to 100 points to an application under the selection criteria and up to 13 additional points under the competitive preference priorities, for a total score of up to 113 points. The maximum score for each criterion is noted in parentheses.

(a) Quality of the project design. (up to 20 points)

The Secretary considers the quality of the design of the proposed project. In determining the quality of the design of the proposed project, the Secretary considers the following factors:

(1) The extent to which the proposed project demonstrates a rationale (as defined in this notice). (up to 5 points)

(2) The extent to which the design of the proposed project is appropriate to, and will successfully address, the needs of the target population or other identified needs. (up to 10 points)

(3) The extent to which the proposed project will establish linkages with other appropriate agencies and organizations providing services to the target population. (up to 5 points)

(b) Quality of project services. (up to 20 points)

The Secretary considers the quality of the services to be provided by the proposed project. In determining the quality of the services to be provided by the proposed project, the Secretary considers the quality and sufficiency of strategies for ensuring equal access and treatment for eligible project participants who are members of groups that have traditionally been underrepresented based on race, color, national origin, gender, age, or disability. (up to 5 points)

In addition, the Secretary considers the following factors:

(1) The extent to which the services to be provided by the proposed project are appropriate to the needs of the intended recipients or beneficiaries of those services. (up to 5 points)

(2) The likely impact of the services to be provided by the proposed project on the intended recipients of those services. (up to 5 points)

(3) The extent to which the services to be provided by the proposed project involve the collaboration of appropriate partners for maximizing the effectiveness of project services. (up to 5 points)

(c) Significance. (up to 20 points)

The Secretary considers the significance of the proposed project. In determining the significance of the proposed project, the Secretary considers the following factors:

(1) The potential contribution of the proposed project to increased knowledge or understanding of educational problems, issues, or effective strategies. (up to 10 points)

(2) The likelihood that the proposed project will result in system change or improvement. (up to 10 points)

(d) Quality of project personnel. (up to 20 points)

The Secretary considers the quality of the personnel who will carry out the proposed project. In determining the quality of project personnel, the Secretary considers the extent to which the applicant encourages applications for employment from persons who are members of groups that have traditionally been underrepresented based on race, color, national origin, gender, age, or disability. (up to 8 points)

In addition, the Secretary considers the following factors:

(1) The qualifications, including relevant training and experience, of the project director or principal investigator. (up to 6 points)

(2) The qualifications, including relevant training and experience, of key project personnel. (up to 6 points)

(e) Quality of the management plan. (up to 10 points)

The Secretary considers the quality of the management plan for the proposed project. In determining the quality of the management plan, the Secretary considers the following factors:

(1) The adequacy of the management plan to achieve the objectives of the proposed project on time and within budget, including clearly defined responsibilities, timelines, and milestones for accomplishing project tasks. (up to 5 points)

(2) How the applicant will ensure that a diversity of perspectives are brought to bear in the operation of the proposed project, including those of parents, teachers, the business community, a variety of disciplinary and professional fields, recipients or beneficiaries of services, or others, as appropriate. (up to 5 points)

(f) Quality of the project evaluation. (up to 10 points)

The Secretary considers the quality of the evaluation to be conducted of the proposed project. In determining the quality of the evaluation, the Secretary considers the following factors:

(1) The extent to which the methods of evaluation are thorough, feasible, and appropriate to the goals, objectives, and outcomes of the proposed project. (up to 3 points)

(2) The extent to which the methods of evaluation include the use of objective performance measures that are clearly related to the intended outcomes of the project and will produce quantitative and qualitative data to the extent possible. (up to 3 points)

(3) The extent to which the methods of evaluation will, if well implemented, produce promising evidence (as defined in this notice) about the project's effectiveness (up to 4 points).

Note: For the selection criterion “Quality of personnel” in paragraph (d), applicants are encouraged to include in their application that they are committed to paying their staff a living wage for the local area and providing benefits.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances including those applicable to Federal civil rights laws that prohibit discrimination in programs or activities receiving Federal financial assistance from the Department (34 CFR 100.4, 104.5, 106.4, 108.8, and 110.23).

A panel of three non-Federal reviewers will review and score each application in accordance with the selection criteria in this notice, as well as the competitive preference priorities. A rank order funding slate will be made from this review, and awards will be made in rank order according to the average score received from the peer review. In the event there are two or more applications with the same final score, and there are insufficient funds to fully support each of these applications, the Department applies the following tiebreaking factors.

The first tiebreaker will be application(s) that propose to serve geographic areas that have been previously underserved by this program. If a tie remains, the second tiebreaker will be utilized. The second tiebreaker will be the highest average score for the selection criterion “Quality of Project Design.”

3. Risk Assessment and Specific Conditions: Consistent with 2 CFR 200.206, before awarding grants under this competition the Department conducts a review of the risks posed by applicants. Under 2 CFR 200.208, the Secretary may impose specific conditions and, under 2 CFR 3474.10, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $250,000), under 2 CFR 200.206(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, appendix XII, require you to report certain integrity information to FAPIIS semiannually. Please review the requirements in 2 CFR part 200, appendix XII, if this grant plus all the other Federal funds you receive exceed $10,000,000.

5. In General: In accordance with the Office of Management and Budget's guidance located at 2 CFR part 200, all applicable Federal laws, and relevant Executive guidance, the Department will review and consider applications for funding pursuant to this notice inviting applications in accordance with:

(a) Selecting recipients most likely to be successful in delivering results based on the program objectives through an objective process of evaluating Federal award applications (2 CFR 200.205);

(b) Prohibiting the purchase of certain telecommunication and video surveillance services or equipment in alignment with section 889 of the National Defense Authorization Act of 2019 (Pub. L. 115-232) (2 CFR 200.216);

(c) Providing a preference, to the extent permitted by law, to maximize use of goods, products, and materials produced in the United States (2 CFR 200.322); and

(d) Terminating agreements in whole or in part to the greatest extent authorized by law if an award no longer effectuates the program goals or agency priorities (2 CFR 200.340).

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee or subgrantee that is awarded competitive grant funds must have a plan to disseminate these public grant deliverables. This dissemination plan can be developed and submitted after your application has been reviewed and selected for funding. For additional information on the open licensing requirements, please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to https://www.ed.gov/fund/grant/apply/appforms/appforms.html.

5. Performance Measures: For purposes of Department reporting under 34 CFR 75.110, the Department will use the following program-level performance measures to evaluate the success of the TGIY Program:

(a) Number and rate of project participants enrolled in a postsecondary education program.

(b) Number and rate of project participants, by the end of the grant period, earning a certificate, degree, or other credential.

(c) Number and rate of project participants active in internships, apprenticeships, or other work experiences.

These measures constitute the Department's indicators of success for this program. Consequently, we advise an applicant for an award under this program to give careful consideration to the operationalization of the measures in conceptualizing the approach and evaluation for its proposed project.

If funded, you will be required to collect and report data in your project's annual performance report (34 CFR 75.590).

6. Continuation Awards: In making a continuation award under 34 CFR 75.253, the Secretary considers, among other things: whether a grantee has made substantial progress in achieving the goals and objectives of the project; whether the grantee has expended funds in a manner that is consistent with its approved application and budget; and, if the Secretary has established performance measurement requirements, whether the grantee has made substantial progress in achieving the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: On request to the program contact person listed under FOR FURTHER INFORMATION CONTACT, individuals with disabilities can obtain this document and a copy of the application package in an accessible format. The Department will provide the requestor with an accessible format that may include Rich Text Format (RTF) or text format (txt), a thumb drive, an MP3 file, braille, large print, audiotape, compact disc, or other accessible format.

Electronic Access to This Document: The official version of this document is the document published in the Federal Register. You may access the official edition of the Federal Register and the Code of Federal Regulations at https://www.govinfo.gov. At this site you can view this document, as well as all other Department documents published in the Federal Register, in text or Portable Document Format (PDF). To use PDF, you must have Adobe Acrobat Reader, which is available free at the site.

You may also access documents of the Department published in the Federal Register by using the article search feature at https://www.federalregister.gov. Specifically, through the advanced search feature at this site, you can limit your search to documents published by the Department.

Nasser Paydar,
Assistant Secretary for Postsecondary Education.

[FR Doc. 2024-16836 Filed 7-31-24; 8:45 am]

BILLING CODE 4000-01-P